OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, 202-606-2246.

SUPPLEMENTARY INFORMATION: Appearing in the listing below are the individual authorities established under Schedules A, B, and C between May 1, 2011, and May 31, 2011. These notices are published monthly in the Federal Register at http://www.gpoaccess.gov/fr/ A consolidated listing of all authorities as of June 30 is also published each year. The following Schedules are not codified in the Code of Federal Regulations. These are agency-specific exceptions.

Schedule A

No Schedule A authorities to report during May 2011.

Schedule B

No Schedule B authorities to report during May 2011.

Schedule C

The following Schedule C appointments were approved during May 2011.

Agency name | Organization name | Position title | Authorization number | Effective date
DEPARTMENT OF AGRICULTURE | Office of the Assistant Secretary for Administration | Chief of Staff | DA110063 | 5/13/2011
| Office of the Under Secretary for Research, Education, and Economics | Special Assistant | DA110068 | 5/19/2011
| Office of the Secretary | Deputy White House Liaison | DA110069 | 5/19/2011
| National Institute of Food and Agriculture | Director of Congressional Affairs for Research, Education, and Economics and National Institute of Food and Agriculture | DA110071 | 5/26/2011
APPALACHIAN REGIONAL COMMISSION | Appalachian Regional Commission | Policy Advisor | AP110001 | 5/12/2011
DEPARTMENT OF COMMERCE | Office of the Under Secretary | Chief of Staff for International Trade Administration | DC110068 | 5/3/2011
| International Trade Administration | Director, Office of Strategic Partnerships | DC110073 | 5/19/2011
| Office of Executive Secretariat | Special Assistant | DC110074 | 5/19/2011
DEPARTMENT OF DEFENSE | Office of the Secretary | Deputy White House Liaison | DD110074 | 5/20/2011
DEPARTMENT OF EDUCATION | Office of the Secretary | Deputy Chief of Staff for Operations and Strategy | DB110063 | 5/2/2011
| Office of Legislation and Congressional Affairs | Deputy Assistant Secretary (Oversight) | DB110062 | 5/3/2011
| Office of the Secretary | Executive Assistant | DB110057 | 5/3/2011
| Office of Legislation and Congressional Affairs | Confidential Assistant | DB110061 | 5/11/2011
| Office of Legislation and Congressional Affairs | Deputy Press Secretary | DB110066 | 5/19/2011
| Office of the General Counsel | Confidential Assistant | DB110070 | 5/19/2011
| Office of Planning, Evaluation and Policy Development | Confidential Assistant | DB110073 | 5/19/2011
| Office of the Secretary | Confidential Assistant | DB110072 | 5/19/2011
| Office of the Secretary | Confidential Assistant | DB110071 | 5/19/2011
| Office of Planning, Evaluation and Policy Development | Confidential Assistant | DB110069 | 5/19/2011
| Office of Legislation and Congressional Affairs | Confidential Assistant | DB110068 | 5/19/2011
| Office of the Secretary | Special Assistant | DB110067 | 5/20/2011
DEPARTMENT OF ENERGY | Office of Nuclear Energy, Science and Technology | Special Assistant | DE110084 | 5/11/2011
| Office of General Counsel | Senior Counsel | DE110085 | 5/19/2011
| Office of Assistant Secretary for Policy and International Affairs | Special Assistant | DE110093 | 5/24/2011
ENVIRONMENTAL PROTECTION AGENCY | Office of the Administrator | Policy Analyst | EP110022 | 5/2/2011
EXPORT-IMPORT BANK | Office of the General Counsel | Senior Vice President and General Counsel | EB110009 | 5/27/2011
FEDERAL ENERGY REGULATORY COMMISSION | Office of the Chairman | Confidential Assistant | DR110005 | 5/19/2011
DEPARTMENT OF HEALTH AND HUMAN SERVICES | Office of the Assistant Secretary for Planning and Evaluation | Director of Delivery System Reform | DH110075 | 5/13/2011
DEPARTMENT OF HOMELAND SECURITY | Office of the Chief of Staff | Confidential Assistant | DM110138 | 5/4/2011
| Office of the Assistant Secretary for Policy | Special Assistant | DM110151 | 5/4/2011
| Office of the Chief of Staff | Special Assistant | DM110141 | 5/4/2011
| Office of the Secretary | Special Assistant | DM110139 | 5/6/2011
| Office of the Assistant Secretary for Public Affairs | Public Affairs and Strategic Communications Assistant | DM110163 | 5/12/2011
| Office of Assistant Secretary for Legislative Affairs | Legislative Affairs Specialist | DM110160 | 5/13/2011
| Office of the Chief of Staff | Special Assistant | DM110169 | 5/13/2011
| Office of Assistant Secretary for Legislative Affairs | Legislative Affairs Specialist | DM110173 | 5/18/2011
| U.S. Immigration and Customs Enforcement | Special Assistant | DM110170 | 5/19/2011
| Office of the Assistant Secretary for Public Affairs | Advisor for Strategic Planning and Coordination | DM110175 | 5/20/2011
| Office of the Assistant Secretary for Public Affairs | Director of Special Projects | DM110174 | 5/27/2011
DEPARTMENT OF HOUSING AND URBAN DEVELOPMENT | Office of the General Counsel | Special Assistant | DU110021 | 5/6/2011
DEPARTMENT OF THE INTERIOR | Secretary's Immediate Office | Special Assistant | DI110050 | 5/11/2011
DEPARTMENT OF JUSTICE | Office of Intergovernmental and Public Liaison | Associate Director | DJ110077 | 5/23/2011
DEPARTMENT OF LABOR | Office of the Solicitor | Senior Counselor | DL110031 | 5/9/2011
| Office of Congressional and Intergovernmental Affairs | Senior Legislative Officer | DL110030 | 5/13/2011
| Office of Public Affairs | Special Assistant | DL110034 | 5/19/2011
SECURITIES AND EXCHANGE COMMISSION | Division of Investment Management | Confidential Assistant | SE110004 | 5/17/2011
SMALL BUSINESS ADMINISTRATION | Office of Field Operations | Regional Administrator, Region VII, Kansas City, Missouri | SB110013 | 5/17/2011
SOCIAL SECURITY ADMINISTRATION | Office of the Commissioner | Senior Advisor | SZ110035 | 5/12/2011
DEPARTMENT OF STATE | Bureau of Public Affairs | Senior Advisor | DS110077 | 5/18/2011
DEPARTMENT OF TRANSPORTATION | Administrator | Director of Communications | DT110028 | 5/13/2011
DEPARTMENT OF THE TREASURY | Secretary of the Treasury | Special Assistant | DY110079 | 5/31/2011

Authority: 5 U.S.C. 3301 and 3302; E.O. 10577, 3 CFR 1954-1958 Comp., p. 218.

U.S. Office of Personnel Management.
John Berry,
Director.

[FR Doc. 2011-20806 Filed 8-15-11; 8:45 am]

BILLING CODE 6325-39-P